DEPARTMENT OF HEALTH AND HUMAN SERVICES

National Institutes of Health

Center for Scientific Review; Amended Notice of Meeting

Notice is hereby given of a change in the meeting of the Molecular Neurogenetics Study Section, February 16, 2017, 08:00 a.m. to February 17, 2017, 05:00 p.m., Residence Inn Bethesda, 7335 Wisconsin Avenue, Bethesda, MD 20814 which was published in the Federal Register on January 23, 2017, V 82 Pg. 7842.

The meeting will be held at the Bethesda North Marriott Hotel & Conference Center, 5701 Marinelli Road, North Bethesda, Maryland 20852, instead of Residence Inn Marriott in Bethesda. The meeting time remains the same. The meeting is closed to the public.

Dated: February 7, 2017.
Sylvia L. Neal,
Program Analyst, Office of Federal Advisory Committee Policy.

[FR Doc. 2017-02843 Filed 2-10-17; 8:45 am]

BILLING CODE 4140-01-P